DEPARTMENT OF JUSTICE

[AAG/A Order No. 237-2001]

Privacy Act of 1974; System of Records

Pursuant to the provisions of the Privacy Act of 1974 (5 U.S.C. 552a), notice is hereby given that the Executive Office for Immigration Review (EOIR), Department of Justice, proposes modifying “Records and Management Information System (JUSTICE/EOIR-001),” last published October 10, 1995 (60 FR 52690, 52695), to add two new routine use provisions.

The first routine use allows contractors and others working on behalf of EOIR to have access to the information in the records to properly assist in the completion of EOIR functions. The second routine use allows disclosure to former employees for purposes of responding to official inquiries by government entities or professional licensing authorities in accordance with the Department of Justice's regulation governing access under such circumstances, 28 CFR 16.300-01. This routine use also allows disclosure to former employees where the Department requires information and/or consultation assistance from the former employee that is necessary for personnel-related or other official purposes.

In accordance with 5 U.S.C. 552a(e)(4) and (11), the public is given a 30-day period in which to comment on the system of records. The Office of Management and Budget (OMB), which has oversight responsibility under the Act, requires a 40-day period in which to conclude its review of the system. Therefore, please submit any comments by August 6, 2001. The public, OMB and the Congress are invited to submit any comments to Mary Cahill, Management Analyst, Management and Planning Staff, Justice Management Division, Department of Justice, Washington, DC 20530 (Room 1400, National Place Building).

In accordance with 5 U.S.C. 552a(r) the Department has provided a report to OMB and the Congress.

Dated: June 22, 2001.
Janis A. Sposato,
Acting Assistant Attorney General for Administration.

Justice/EOIR-001

SYSTEM NAME:

Records and Management Information System.

* * * * *

ROUTINE USES OF RECORDS MAINTAINED IN THE SYSTEM, INCLUDING CATEGORIES OF USERS AND THE PURPOSES OF SUCH USES:

* * * * *

* * * may be disseminated to the appropriate Federal, State or local agency charged with the responsibility of investigating or prosecuting such violation or with enforcing or implementing such law.

[Following this sentence insert the two new paragraphs below.]

Relevant information contained in this system of records may also be released to contractors, grantees, experts, consultants, students, and others performing or working on a contract, service, grant, cooperative agreement, or other assignment for the Federal Government, when necessary to accomplish an agency function related to this system of records.

Pursuant to subsection (b)(3) of the Privacy Act, the Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

[The following section of the text and thereafter does not change.]

Release of information to the news media and the public:

* * * * *

[FR Doc. 01-16825 Filed 7-3-01; 8:45 am]

BILLING CODE 4410-30-M